FEDERAL RESERVE SYSTEM

Notice of Proposals to Engage in Permissible Nonbanking Activities or to Acquire Companies that are Engaged in Permissible Nonbanking Activities

The companies listed in this notice have given notice under section 4 of the Bank Holding Company Act (12 U.S.C. 1843) (BHC Act) and Regulation Y (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than August 13, 2003.

A. Federal Reserve Bank of New York (Jay Bernstein, Bank Supervision Officer) 33 Liberty Street, New York, New York 10045-0001:

1. Banco Bilbao Vizcaya Argentaria, S.A., Bilbao, Spain, and Grupo Financiero BBVA Bancomer, S.A., DE C.V., Mexico City, Mexico; to engage de novo through its subsidiaries, Bancomer Transfer Services, Inc., Houston, Texas; BBVA Bancomer Foreign Exchange, Inc., Houston, Texas; Bancomer Financial Services, Inc., Houston, Texas; and Bancomer Payment Services, Inc., Houston, Texas, in domestic and international money transmission, (Popular, Inc., 84 Fed. Res. Bull. 481 (1997) (Popular) and Norwest Corp., 81 Fed. Res. Bull. 974 (1995) and 81 Fed. Res. Bull. 1130 (1995)); check cashing, Popular and Midland Bank, PLC, 76 Fed. Res. Bull. 860, 863 (1990)), and in bill payments, (Popular and BancOne Corp., 80 Fed. Res. Bull. 139 (1994)), and to engage in issuing and selling money orders, traveler's checks, and prepaid telephone cards, pursuant to section 225.28(b)(13), and buying and selling foreign exchanges agent and as principal, pursuant to sections 225.28(b)(7) and (8)(ii)(A) of Regulation Y.

Board of Governors of the Federal Reserve System, July 24, 2003.
Robert deV. Frierson,
Deputy Secretary of the Board.

[FR Doc.03-19292 Filed 7-29-03; 8:45 am]

BILLING CODE 6210-01-S